DEPARTMENT OF COMMERCE

International Trade Administration

[A-533-863, A-475-832, A-570-026, A-580-878, A-583-856]

Certain Corrosion-Resistant Steel Products From India, Italy, the People's Republic of China, the Republic of Korea, and Taiwan: Notice of Correction to the Antidumping Duty Orders

AGENCY: Enforcement and Compliance, International Trade Administration, Department of Commerce.

FOR FURTHER INFORMATION CONTACT: Julia Hancock or Susan Pulongbarit at (202) 482-1394 and (202) 482-4031, respectively (Italy), Kabir Archuletta at (202) 482-2593 (India); Elfi Blum or Lingjun Wang (Korea) at (202) 482-0197 or (202) 482-2316, respectively; Nancy Decker or Andrew Huston at (202) 482-0196 or (202) 482-4261, respectively (PRC); or Shanah Lee or Paul Stolz at (202) 482-6386 and (202) 482-4474, respectively (Taiwan), AD/CVD Operations, Enforcement and Compliance, International Trade Administration, U.S. Department of Commerce, 14th Street and Constitution Avenue NW., Washington, DC 20230.

SUPPLEMENTARY INFORMATION: On July 25, 2016, the Department of Commerce (the Department) published the Antidumping Duty Orders on certain corrosion-resistant steel products from India, Italy, the People's Republic of China (PRC), the Republic of Korea (Korea), and Taiwan.¹ The Antidumping Duty Orders contained unintended errors regarding (1) the estimated weighted-average dumping margins for the PRC and (2) the date that the extended period of provisional measures expired.

¹ See Certain Corrosion-Resistant Steel Products from India, Italy, the People's Republic of China, the Republic of Korea and Taiwan: Amended Final Affirmative Antidumping Determination for India and Taiwan, and Antidumping Duty Orders, 81 FR 48390 (July 25, 2016) (Antidumping Duty Orders).

Estimated Weighted-Average Dumping Margins for PRC

As stated in the Initiation Notice,² the Department calculates combination rates for respondents that are eligible for a separate rate in non-market economy antidumping duty investigations. Policy Bulletin 05.1 describes this practice.³ While we correctly listed the PRC rates as combination rates in the PRC Final Determination,⁴ we did not list any of the PRC rates as exporter/producer combination rates in the Antidumping Duty Orders.⁵

² See Certain Corrosion-Resistant Steel Products From Italy, India, the People's Republic of China, the Republic of Korea, and Taiwan: Initiation of Less-Than-Fair-Value Investigations, 80 FR 37228 (June 30, 2015) (Initiation Notice).

³ See Enforcement and Compliance's Policy Bulletin No. 05.1, regarding, “Separate-Rates Practice and Application of Combination Rates in Antidumping Investigations involving Non-Market Economy Countries,” (April 5, 2005) (Policy Bulletin 05.1), available on the Department's Web site at http://enforcement.trade.gov/policy/bull05-1.pdf.

⁴ See Certain Corrosion-Resistant Steel Products from the People's Republic of China: Final Determination of Sales at Less Than Fair Value and Final Affirmative Critical Circumstances Determination, in Part, 81 FR 35316 (June 2, 2016) (PRC Final Determination).

⁵ See Antidumping Duty Orders at 48393.

The PRC weighted-average antidumping duty margins and cash deposit rates, as listed in the Antidumping Duty Orders, should all be corrected to reflect the following exporter/producer combination rates:

Exporter | Producer | Weighted- average dumping margin (percent) | Cash deposit rate (percent)
Yieh Phui (China) Technomaterial Co., Ltd | Yieh Phui (China) Technomaterial Co., Ltd | 209.97 | 199.43
Jiangyin Zongcheng Steel Co. Ltd | Jiangyin Zongcheng Steel Co. Ltd | 209.97 | 199.43
Union Steel China | Union Steel China | 209.97 | 199.43
PRC-Wide Entity | 209.97 | 199.43

Provisional Measures

In the Antidumping Duty Orders, we incorrectly listed the last day of the extended period of provisional measures as July 2, 2016.⁶ The correct last day of the extended period of provisional measures is July 1, 2016. Therefore, in accordance with section 733(d) of the Tariff Act of 1930, as amended (the Act) and our practice, the Department will instruct U.S. Customs and Border Protection to terminate the suspension of liquidation and to liquidate, without regard to antidumping duties, unliquidated entries of certain corrosion-resistant steel products from India, Italy, Korea, and the PRC ⁷ entered, or withdrawn from warehouse, for consumption on or after July 2, 2016, the date on which the provisional measure period expired, until and through the day preceding the date of publication of the International Trade Commission's final injury determinations in the Federal Register.

⁶ See Antidumping Duty Orders, at 48392.

⁷ In the Antidumping Duty Orders, we inadvertently stated that (1) antidumping duties will be assessed on unliquidated entries of certain corrosion-resistant steel products from Taiwan entered, or withdrawn from warehouse, for consumption on or after January 4, 2016, the date of publication of the preliminary determination, and (2) the last day of the extended period of provisional measures for Taiwan was July 2, 2016. These are both incorrect. Because Taiwan had a negative preliminary determination, the provisional measures period did not expire for Taiwan. See Certain Corrosion-Resistant Steel Products from Taiwan: Negative Preliminary Determination of Sales at Less Than Fair Value, 81 FR 72 (January 4, 2016). Thus, we began to suspend liquidation of all entries of certain corrosion-resistant steel products from Taiwan on June 2, 2016, the date of publication of Taiwan Final Determination. See Certain Corrosion-Resistant Steel Products from Taiwan: Final Determination of Sales at Less Than Fair Value and Final Affirmative Determination of Critical Circumstances, in Part, 81 FR 35313 (June 2, 2016) (Taiwan Final Determination).

We are now correcting the Antidumping Duty Orders for India, Italy, the PRC, Korea, and Taiwan, as noted above.

These corrections to the Antidumping Duty Orders for India, Italy, the PRC, Korea, and Taiwan are published in accordance with sections 777(i)(1) of the Act.

Dated: August 19, 2016.
Paul Piquado,
Assistant Secretary for Enforcement and Compliance.

[FR Doc. 2016-20429 Filed 8-24-16; 8:45 am]

BILLING CODE 3510-DS-P